COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products to the Procurement List that will be furnished by nonprofit agencies employing persons who are blind or have other severe disabilities, and deletes products and services previously furnished by such agencies.

DATES: Comments must be received on or before: 3/16/2015.

ADDRESSES: Committee for Purchase From People Who Are Blind or Severely Disabled, 1401 S. Clark Street, Suite 715, Arlington, Virginia 22202-4149.

FOR FURTHER INFORMATION CONTACT: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

Products Name/NSNs:

MR 385—Kit, Gifts for Santa

MR 378—Christmas Sticker Book

Mandatory for Purchase by: Defense Commissary Agency, Fort Lee, VA

Mandatory Source of Supply: Winston-Salem Industries for the Blind, Inc., Winston-Salem, NC

Distribution: C-List

Products Name/NSNs:

MR 390—Slotted Spoon, Red

MR 391—Slotted Turner, Red

MR 392—Tongs, Red

MR 393—Slotted Spoon, Green

MR 394—Slotted Turner, Green

MR 395—Tongs, Green

Mandatory for Purchase by: Defense Commissary Agency, Fort Lee, VA

Mandatory Source of Supply: Industries for the Blind, Inc., West Allis, WI

Distribution: C-List

Deletions

The following products and services are proposed for deletion from the Procurement List:

Products

Product Name/NSNs:

Folder, Zebley Claim

NSN: 7530-00-000-0430

NSN: 7530-00-000-0432

Mandatory Source of Supply: Goodwill Industries of the Pioneer Valley, Inc., Springfield, MA

Contracting Activity: Social Security Administration Hdqtrs—Office of Acquisition & Grants, Baltimore, MD

Services

Service Type: Microfilming Service

Service is Mandatory for: Commodities Future Trading Commission, 1155 21st Street, Washington, DC

Mandatory Source of Supply: No NPA Assigned

Service Type: Warehouse Staffing Service

Service is Mandatory for: Warehouse Section, 325 Broadway, Bldg. 22, NOAA's Logistics Div., Boulder, CO

Mandatory Source of Supply: Bayaud Industries, Inc., Denver, CO

Contracting Activity: Dept of Commerce, National Oceanic and Atmospheric Administration, Boulder, Co

Service Type: Custodial Service

Service is Mandatory for: USDA, Laboratory Research Building, 6301 W. 750 North, West Lafayette, IN

Mandatory Source of Supply: Wabash Center, Inc., Lafayette, IN

Contracting Activity: Dept of Agricultural, Agricultural Research Service, USDA ARS MWA 52KJ, West Lafayette, IN

Patricia Briscoe,
Deputy Director, Business Operations, (Pricing and Information Management).

[FR Doc. 2015-03030 Filed 2-12-15; 8:45 am]

BILLING CODE 6353-01-P